GENERAL SERVICES ADMINISTRATION

41 CFR Part 102-117

[FMR Case 2024-03; Docket No. GSA-FMR-2024-0015; Sequence No. 1]

Federal Management Regulation; Updating Transportation Management, With Diversity, Equity, Inclusion, and Accessibility Language

AGENCY: Office of Government-wide Policy (OGP), General Services Administration (GSA).

ACTION: Final rule.

SUMMARY: The United States General Services Administration (GSA) is issuing a final rule amending the Federal Management Regulation (FMR). This amendment introduces changes specific to Transportation Management. Following a comprehensive review, GSA decided to eliminate the use of gendered pronouns in this FMR part. The modifications aim to ensure the language aligns with the principles of inclusivity, particularly concerning gender, and to further incorporate language that supports diversity, equity, inclusivity, and accessibility. These changes are grammatical and technical in nature and will not result in additional costs or related policy changes for agencies.

DATES: This final rule is effective on November 26, 2024.

FOR FURTHER INFORMATION CONTACT: Mr. Ron Siegel, Policy Analyst, at 202-702-0840 or gsa-ogp-transportationpolicy@;gsa.gov for clarification of content. For information pertaining to status or publication schedules, contact the Regulatory Secretariat Division at 202-501-4755 or GSARegSec@gsa.gov. Please cite “FMR Case 2024-03”.

SUPPLEMENTARY INFORMATION:

I. Background

Executive Order (E.O.) 13988, Preventing and Combating Discrimination on the Basis of Gender Identity or Sexual Orientation, dated January 20, 2021, establishes a policy “to prevent and combat discrimination on the basis of gender identity or sexual orientation, and to fully enforce Title VII and other laws that prohibit discrimination on the basis of gender identity or sexual orientation.”

The Federal Government must be a model for diversity, equity, inclusion, and accessibility, where all employees are treated with dignity and respect. While GSA is not aware of any specific instances where language in this FMR part has been used to discriminate against an employee, GSA believes it is important to prevent any potential discrimination or the appearance of it.

Consistent with the American Psychological Association (APA) Style Guide, 7th Edition, Publication Manual Section 5.5 guidance on “Gender and Pronoun Usage”, GSA is replacing gender-specific pronouns, such as he, she, his, or her, with more inclusive terminology.

II. Discussion of the Final Rule

A. Summary of Significant Changes

This final rule removes gender-based pronouns from this FMR part and replaces them with more inclusive language. The grammatical and technical changes do not alter any definition, operation, or interpretation of the FMR.

B. Expected Cost Impact to the Public

There is no expected cost imposed upon the public as a result of this rule since the changes are technical.

III. Executive Orders 12866, 13563, and 14094

Executive Order (E.O.) 12866 (Regulatory Planning and Review) directs agencies to assess all costs and benefits of available regulatory alternatives and, if regulation is necessary, to select regulatory approaches that maximize net benefits (including potential economic, environmental, public health and safety effects, distributive impacts, and equity). E.O. 13563 (Improving Regulation and Regulatory Review) emphasizes the importance of quantifying both costs and benefits, of reducing costs, of harmonizing rules, and of promoting flexibility. E.O. 14094 (Modernizing Regulatory Review) amends Section 3(f) of E.O. 12866 and supplements and reaffirms the principles, structures, and definitions governing contemporary regulatory review established in E.O. 12866 and E.O. 13563. The Office of Management and Budget's Office of Information and Regulatory Affairs (OIRA) has determined that this rule is not a significant regulatory action, and therefore, was not subject to review under Section 6(b) of E.O. 12866.

IV. Congressional Review Act

OIRA has determined that this rule is not a “major rule” under 5 U.S.C. 804(2). Title II, Subtitle E of the Small Business Regulatory Enforcement Fairness Act of 1996 (codified at 5 U.S.C. 801-808), also known as the Congressional Review Act or CRA, generally provides that before a rule may take effect, unless excepted, the agency promulgating the rule must submit a rule report, which includes a copy of the rule, to each House of the Congress and to the Comptroller General of the United States. This rule is excepted from CRA reporting requirements prescribed under 5 U.S.C. 801, as it relates to agency management or personnel under 5 U.S.C. 804(3)(B).

V. Regulatory Flexibility Act

This final rule will not have a significant economic impact on a substantial number of small entities within the meaning of the Regulatory Flexibility Act, 5 U.S.C. 601, et seq. This final rule is also exempt from the Administrative Procedure Act pursuant to 5 U.S.C. 553(a)(2) because it applies to agency management or personnel. Therefore, an Initial Regulatory Flexibility Analysis was not performed.

VI. Paperwork Reduction Act

The Paperwork Reduction Act does not apply because the changes to the FMR do not impose recordkeeping or information collection requirements, or the collection of information from offerors, contractors, or members of the public that require the approval of the Office of Management and Budget (OMB) under 44 U.S.C. 3501, et seq.

List of Subjects in 41 CFR Part 102-117

Freight, Government property management, Moving of household goods, Reporting and recordkeeping requirements, Transportation.

Robin Carnahan,
Administrator of General Services.

For the reasons set forth in the preamble, GSA amends 41 CFR part 102-117 as set forth below:

PART 102-117—TRANSPORTATION MANAGEMENT

1. The authority citation for 41 CFR part 102-117 continues to read as follows:

Authority: 31 U.S.C. 3726; 40 U.S.C. 121(c); 40 U.S.C. 501, et seq.; 46 U.S.C. 55305; 49 U.S.C. 40118.

2. Revise the section heading for § 102-117.240 to read as follows:

§ 102-117.240 What is my agency's financial responsibility to an employee who chooses to move all or part of their HHG under the commuted rate system?

* * * * *

§ 102-117.295 [Amended]

3. Amend § 102-117.295 by, in paragraph (b), removing the words “his/her” from the second sentence.

[FR Doc. 2024-27565 Filed 11-25-24; 8:45 am]

BILLING CODE P